DEPARTMENT OF DEFENSE

Defense Acquisition Regulations System

[OMB Control Number 0704-0232]

Information Collection Requirement; Defense Federal Acquisition Regulation Supplement; Contract Pricing

AGENCY: Defense Acquisition Regulations System, Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection under Control Number 0704-0267 for use through July 31, 2007, and Control Number 0704-0232 for use through December 31, 2007. DoD is combining both requirements under Control Number 0704-0232, and is proposing that OMB extend its approval for use for three additional years.

DATES: DoD will consider all comments received by March 23, 2007.

ADDRESSES: You may submit comments, identified by OMB Control Number 0704-0232, using any of the following methods:

• Federal eRulemaking Portal: http://www.regulations.gov. Follow the instructions for submitting comments.

• E-mail: dfars@osd.mil. Include OMB Control Number 0704-0232 in the subject line of the message.

• Fax: (703) 602-0350.

• Mail: Defense Acquisition Regulations System, Attn: Ms. Pat West, OUSD(AT&L)DPAP(CPF), IMD 3C132, 3062 Defense Pentagon, Washington, DC 20301-3062.

• Hand Delivery/Courier: Defense Acquisition Regulations System, Crystal Square 4, Suite 200A, 241 18th Street, Arlington, VA 22202-3402.

Comments received generally will be posted without change to http://www.regulations.gov, including any personal information provided.

FOR FURTHER INFORMATION CONTACT: Ms. Pat West, at (703) 602-8387. The information collection requirements addressed in this notice are available on the World Wide Web at: http://www.acq.osd.mil/dpap/dars/dfars/index.htm. Paper copies are available from Ms. Pat West, OUSD(AT&L)DPAP(CPF), IMD 3C132, 3062 Defense Pentagon, Washington, DC 20301-3062.

SUPPLEMENTARY INFORMATION: Title, Associated Form, and OMB Number: Defense Federal Acquisition Regulation Supplement (DFARS) Subpart 215.4, Contract Pricing; DD Form 1861, Contract Facilities Capital Cost of Money; OMB Control Number 0704-0232.

Needs and Uses:

DoD contracting officers use DD Form 1861 in computing profit objectives for negotiated contracts. A DD Form 1861 is normally completed for each proposal for a contract for supplies or services that is priced and negotiated on the basis of cost analysis. The form enables contracting officers to differentiate profit objectives for various types of contractor assets (land, buildings, equipment). DoD needs this information to develop appropriate profit objectives when negotiating Government contracts.

DoD contracting officers need the information required by DFARS 215.407-5, Estimating systems, and the related contract clause at 252.215-7002, Cost Estimating System Requirements, to determine if a contractor has an acceptable system for generating cost estimates, and to monitor the correction of any deficiencies.

Affected Public: Businesses and other for-profit entities.

Number of Respondents: 10,300.

Responses Per Respondent: Approximately 5.

Annual Responses: 53,458.

Average Burden Per Response: Approximately 10 hours.

Annual Response Burden Hours: 538,480.

Reporting Frequency: On occasion.

Summary of Information Collection

DFARS 215.404-71-4, Facilities capital employed, requires the use of DD Form 1861 as a means of linking Form CASB-CMF, Facilities Capital Cost of Money Factors Computation, and DD Form 1547, Record of Weighted Guidelines Application. The contracting officer uses DD Form 1861 to record and compute contract facilities capital cost of money and facilities capital employed, and carries the facilities capital employed amount to DD Form 1547 to develop a profit objective. When the weighted guidelines method is used as one of the three structured approaches for developing a prenegotiation profit or fee objective in accordance with DFARS 215.404-4, completion of DD Form 1861 requires contractor information not included on Form CASB-CMF, i.e., distribution percentages of land, buildings, and equipment for the business unit performing the contract.

DFARS 215.407-5, Estimating systems, and the clause at 252.215-7002, Cost Estimating System Requirements, require that certain large business contractors—

• Establish an acceptable cost estimating system and disclose the estimating system to the administrative contracting officer (ACO) in writing;

• Maintain the estimating system and disclose significant changes in the system to the ACO on a timely basis; and

• Respond in writing to written reports from the Government that identify deficiencies in the estimating system.

Michele P. Peterson,
Editor, Defense Acquisition Regulations System.

[FR Doc. E7-735 Filed 1-19-07; 8:45 am]

BILLING CODE 5001-08-P